TENNESSEE VALLEY AUTHORITY

Sunshine Act Meeting Notice

Meeting No. 19-01

The TVA Board of Directors will hold a public meeting on February 14, 2019, in the Missionary Ridge Auditorium of the Chattanooga Office Complex, 1101 Market Street, Chattanooga, Tennessee. The meeting will be called to order at 9:30 a.m. ET to consider the agenda items listed below. TVA will answer questions from the news media following the Board meeting.

On February 13, the public may comment on any agenda item or subject at a board-hosted listening session which begins at 3:30 p.m. ET and will last until 5:30 p.m. Preregistration is required to address the Board.

STATUS: Open.

Agenda

Chair's Welcome

Old Business

Approval of minutes of the November 14, 2018, Board Meeting

New Business

1. Report from Chair

A. Committee Charters

B. Updated Board Practice on Use of TVA Aircraft

C. Chair Selection

2. Report from President and CEO

3. Report of the Finance, Rates, and Portfolio Committee

A. Asset Portfolio Evaluation: Bull Run and Paradise

B. Research and Renewable Projects to support Distributed Energy Resources

C. Dual Metering Standard Change and Design Exploration for Green Power Providers

4. Report of the Audit, Risk, and Regulation Committee

5. Report of the Nuclear Oversight Committee

6. Report of the External Relations Committee

7. Report of the People and Performance Committee

A. Update on CEO Succession Process

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: February 7, 2019.
Sherry A. Quirk,
General Counsel.

[FR Doc. 2019-02137 Filed 2-8-19; 11:15 am]

BILLING CODE 8120-08-P